DEPARTMENT OF HOMELAND SECURITY

Coast Guard

[Docket No. USCG-2019-0346]

Notice of Availability of Navigation and Vessel Inspection Circular 01-16 Change 2—Use of Electronic Charts and Publications in Lieu of Paper Charts, Maps and Publications

AGENCY: Coast Guard, DHS.

ACTION: Notice of availability.

SUMMARY: The Coast Guard announces the availability of Navigation and Vessel Inspection Circular (NVIC) 01-16 Change 2 together with a Deregulatory Savings Analysis. This NVIC provides that U.S. vessels may access navigation publications electronically, through underway connectivity, to meet domestic carriage and Safety of Life at Sea certification requirements.

DATES: Comments and related material must be received by the Coast Guard on or before November 4, 2019.

ADDRESSES: You may submit comments identified by docket number USCG-2019-0346 using the Federal eRulemaking Portal at https://www.regulations.gov. See the “Public Participation and Request for Comments” portion of the SUPPLEMENTARY INFORMATION section for further instructions on submitting comments.

FOR FURTHER INFORMATION CONTACT: Please address questions or feedback concerning this policy to George H. Detweiler, Office of Navigation Systems, Coast Guard; telephone 202-372-1566, email cgnav@uscg.mil.

SUPPLEMENTARY INFORMATION:

Public Participation and Request for Comments

The Coast Guard views public participation as essential to making effective policy, and will consider all comments and material received during the comment period. Your comment can help shape the final form of this policy. If you submit a comment, please include the docket number for this notice, indicate the specific section of the document to which each comment applies, and provide a reason for each suggestion or recommendation.

We encourage you to submit comments through the Federal eRulemaking Portal at https://www.regulations.gov. If you cannot submit your material by using https://www.regulations.gov, contact the person in the FOR FURTHER INFORMATION CONTACT section of this proposed rule for alternate instructions. Documents mentioned in this proposed rule, and all public comments, will be available in our online docket at https://www.regulations.gov, and can be viewed by following that website's instructions. Additionally, if you visit the online docket and sign up for email alerts, you will be notified when comments are posted or if a final rule is published.

We accept anonymous comments. All comments received will be posted without change to https://www.regulations.gov and will include any personal information you have provided. For more about privacy and the docket, visit https://www.regulations.gov/privacyNotice.

Discussion

Navigation publications have always been a principal source of voyage planning information. Mariners researched books of tide tables, the United States Coast Pilot, local notices to mariners, and other information sources to glean relevant information for a particular transit. Although such publications have historically been required to be kept on board a vessel, the Coast Guard has formally recognized that a mariner engaged in voyage planning might not need an entire publication at all times.¹ Since 2010, the Coast Guard has allowed U.S. vessels to carry certain navigation publications electronically to meet U.S. domestic regulations and Safety of Life at Sea (SOLAS) certificate requirements. This is an acceptance of common industry practice.

¹ 33 CFR 164.33 and 164.72 and 46 CFR 26.03-4, 28.225, 78.05-5, 97.05-5, 109.565, 121.420, 130.330, 140.705, 184.420, and 196.05-5 allow for an “applicable currently corrected extract.”

In response to recommendations from the Navigation Safety Advisory Council and the public, the Coast Guard is updating its policy on electronic carriage of the Inland Navigation Rules and electronic publications in general. Currently, the Coast Guard, the National Oceanic and Atmospheric Administration and the National Geospatial-Intelligence Agency are providing marine safety information in an updated electronic format, some of which is now graphical and geographically selectable. Electronic devices (both hardware and software) have improved such that a mariner can efficiently access navigation publications when needed.

Furthermore, the Coast Guard recognizes that the maritime industry and mariners in general have made substantial investments to ensure vessels maintain internet connectivity, even while underway. Because mariners use navigation publications primarily for voyage planning purposes, the Coast Guard sees no safety barriers preventing vessels from accessing required navigation information via the internet on an as-needed basis, versus keeping a publication or extract onboard. To encourage the use of electronic voyage planning products, the Coast Guard is allowing vessels to meet the publication requirements via internet access.

Therefore, Navigation and Vessel Inspection Circular (NVIC) 01-16 Change 1 is revised to allow publications required by 33 Code of Federal Regulations (CFR) parts 83, 161, and 164 and various parts of Title 46 CFR and SOLAS Chapter V regulation 27 to be accessed via web services. If a mariner uses this NVIC for a publication that must be available as a “ready reference”, as cited in 33 CFR parts 83 and 161, the publication must be displayable within 2 minutes.

The Coast Guard has prepared a Deregulatory Savings Analysis for NVIC 01-16 Change 2 that identifies and examines the potential costs and cost savings associated with implementing the new equivalency determination for carriage. This Deregulatory Savings Analysis is available in the docket. We request your comments on any concerns that you may have related to these policy changes or the economic analysis thereof.

NVIC 01-16 is not a substitute for applicable legal requirements, nor is it itself a rule.

This Notice is published under the authority of 5 U.S.C. 552.

Dated: September 17, 2019.
R.V. Timme,
Rear Admiral, U.S. Coast Guard, Assistant Commandant for Prevention Policy.

[FR Doc. 2019-20430 Filed 9-19-19; 8:45 am]

BILLING CODE 9110-04-P